DEPARTMENT OF TRANSPORTATION

Federal Aviation Administration

[Policy Statement No. ANE-2001-35.1-R0]

Policy for Parts Manufacturer Approval (PMA) for Critical Propeller Parts

AGENCY: Federal Aviation Administration, DOT.

ACTION: Notice of proposed policy statement; request for comments.

SUMMARY: The Federal Aviation Administration (FAA) announces the availability of proposed policy for parts manufacturer approval (PMA) for critical propeller parts.

DATES: Comments must be received by September 28, 2001.

ADDRESSES: Send all comments on the proposed policy to the individual identified under FOR FURTHER INFORMATION CONTACT.

FOR FURTHER INFORMATION CONTACT: Jay Turnberg, FAA, Engine and Propeller Standards Staff, ANE-110, 12 New England Executive Park, Burlington, MA 01803; e-mail: jay.turnberg@faa.gov; telephone (781) 238-7116; fax: (781) 238-7199.

SUPPLEMENTARY INFORMATION:

Comments Invited

The proposed policy statement is available on the Internet at the following address: http://www.faa.gov/avr/air/ane/ane110/hpage.htm. If you do not have access to the Internet, you may request a copy by contacting the individual listed under FOR FURTHER INFORMATION CONTACT. The FAA invites interested parties to comment on the proposed policy. Comments should identify the subject of the proposed policy and be submitted to the individual identified under FOR FURTHER INFORMATION CONTACT. The FAA will consider all comments received by the closing date before issuing the final policy.

Background

This policy would establish a uniform approach for Aircraft Certification Offices (ACOs) to evaluate PMA applications for both critical and life-limited propeller parts. The proposed policy would not establish new requirements.

(Authority: 49 U.S.C. 106(g), 40113, 44701-44702, 44704).
Issued in Burlington, Massachusetts, on August 16, 2001.
Jay J. Pardee,
Manager, Enginer and Propeller Directorate, Aircraft Certification Service.

[FR Doc. 01-21302 Filed 8-22-01; 8:45 am]

BILLING CODE 4910-13-M